DEPARTMENT OF TRANSPORTATION

Federal Aviation Administration

14 CFR Part 39

[Docket No. FAA-2008-0117; Directorate Identifier 2007-NM-273-AD; Amendment 39-15472; AD 2008-08-18]

RIN 2120-AA64

Airworthiness Directives; Fokker Model F.28 Mark 0070 and Mark 0100 Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

[L]eakage of hot wing anti-icing air from the Peri-seal housing. This results in an uncontrolled flow of high-pressure hot air to enter the forward (anti-icing) plenum chamber of the wing leading edge, potentially damaging the anti-icing barrier webs. Subsequently, the wing auxiliary spar can also be damaged by high-pressure hot air. * * * [D]eterioration of the Peri-seals enables the piccolo tubes to vibrate, resulting in a broken piccolo tube. * * * This condition, if not corrected, may cause heat damage to the front spar that potentially affects the wing's load capability.

We are issuing this AD to require actions to correct the unsafe condition on these products.

DATES: This AD becomes effective May 27, 2008.

The Director of the Federal Register approved the incorporation by reference of certain publications listed in this AD as of May 27, 2008.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Tom Rodriguez, Aerospace Engineer, International Branch, ANM-116, FAA, Transport Airplane Directorate, 1601 Lind Avenue, SW., Renton, Washington 98057-3356; telephone (425) 227-1137; fax (425) 227-1149.

SUPPLEMENTARY INFORMATION:

Discussion

We issued a notice of proposed rulemaking (NPRM) to amend 14 CFR part 39 to include an AD that would apply to the specified products. That NPRM was published in the Federal Register on February 5, 2008 (73 FR 6629). That NPRM proposed to correct an unsafe condition for the specified products. The MCAI states:

In 1997, Fokker introduced a new type of Peri-seal (SBF100-30-022). The old type was known to be subject to deterioration, which, in combination with improper installation, can cause leakage of hot wing anti-icing air from the Peri-seal housing. This results in an uncontrolled flow of high-pressure hot air to enter the forward (anti-icing) plenum chamber of the wing leading edge, potentially damaging the anti-icing barrier webs. Subsequently, the wing auxiliary spar can also be damaged by high-pressure hot air. Analysis at the time showed that any resulting damage (known to occur at inboard positions only) would not affect the wing load capability. For this reason, the modification was not classified as MANDATORY and no AD action was warranted. However, through a recent occurrence, it was discovered that deterioration of the Peri-seals enables the piccolo tubes to vibrate, resulting in a broken piccolo tube. In this case, the location of the failure was more outboard than previous occurrences. This condition, if not corrected, may cause heat damage to the front spar that potentially affects the wing's load capability. Since an unsafe condition was identified, likely to exist or develop on an aircraft of this type design, CAA (Civil Aviation Authority) Netherlands issued AD NL-2006-011 to require inspection of the Piccolo Tubes and the surrounding structure to establish correct installation, as well as the replacement of the 460-series Peri-seals by the improved 600-series, which have a higher temperature limit.

Since the issuance of that AD, Fokker has developed a modification, published as Component Service Bulletin (CSB) D14000-57-007, for spare wing leading edge sections that may still contain the 460-series Peri-seals. For that reason, this EASA AD retains the requirements of AD NL-2006-011 and adds a limit for the allowed use of unmodified wing leading edge section as replacement part.

The corrective actions include inspection of the piccolo tubes and the wing leading edge for damage, and replacement of the Peri-seals, or repair of damage, as applicable. You may obtain further information by examining the MCAI in the AD docket.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect about 9 products of U.S. registry. We also estimate that it will take about 48 work-hours per product to comply with the basic requirements of this AD. The average labor rate is $80 per work-hour. Required parts will cost about $3,430 per product. Where the service information lists required parts costs that are covered under warranty, we have assumed that there will be no charge for these parts. As we do not control warranty coverage for affected parties, some parties may incur costs higher than estimated here. Based on these figures, we estimate the cost of this AD to the U.S. operators to be $65,430, or $7,270 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-08-18 Fokker Services B.V.: Amendment 39-15472. Docket No. FAA-2008-0117; Directorate Identifier 2007-NM-273-AD.

Effective Date

(a) This airworthiness directive (AD) becomes effective May 27, 2008.

Affected ADs

(b) None.

Applicability

(c) This AD applies to Fokker Model F.28 Mark 0070 and Mark 0100 airplanes, certificated in any category, all serial numbers, except those previously modified in accordance with Fokker Service Bulletin SBF100-30-022.

Subject

(d) Air Transport Association (ATA) of America Code 30: Ice and Rain Protection.

Reason

(e) The mandatory continuing airworthiness information (MCAI) states:

In 1997, Fokker introduced a new type of Peri-seal (SBF100-30-022). The old type was known to be subject to deterioration, which, in combination with improper installation, can cause leakage of hot wing anti-icing air from the Peri-seal housing. This results in an uncontrolled flow of high-pressure hot air to enter the forward (anti-icing) plenum chamber of the wing leading edge, potentially damaging the anti-icing barrier webs. Subsequently, the wing auxiliary spar can also be damaged by high-pressure hot air. Analysis at the time showed that any resulting damage (known to occur at inboard positions only) would not affect the wing load capability. For this reason, the modification was not classified as MANDATORY and no AD action was warranted. However, through a recent occurrence, it was discovered that deterioration of the Peri-seals enables the piccolo tubes to vibrate, resulting in a broken piccolo tube. In this case, the location of the failure was more outboard than previous occurrences. This condition, if not corrected, may cause heat damage to the front spar that potentially affects the wing's load capability. Since an unsafe condition was identified, likely to exist or develop on an aircraft of this type design, CAA (Civil Aviation Authority) Netherlands issued AD NL-2006-011 to require inspection of the Piccolo Tubes and the surrounding structure to establish correct installation, as well as the replacement of the 460-series Peri-seals by the improved 600-series, which have a higher temperature limit.

Since the issuance of that AD, Fokker has developed a modification, published as Component Service Bulletin (CSB) D14000-57-007, for spare wing leading edge sections that may still contain the 460-series Peri-seals. For that reason, this EASA AD retains the requirements of AD NL-2006-011 and adds a limit for the allowed use of unmodified wing leading edge section as replacement part.

The corrective actions include inspection of the piccolo tubes and the wing leading edge for damage, and replacement of the Peri-seals, or repair of damage, as applicable.

Actions and Compliance

(f) Unless already done, do the following actions.

(1) Within 4,000 flight hours or 12 months after the effective date of this AD, whichever occurs first, do the actions in paragraphs (f)(1)(i) and (f)(1)(ii) of this AD in accordance with the Accomplishment Instructions of Fokker Service Bulletin SBF100-30-028, Revision 1, dated April 17, 2007.

(i) Inspect for damage of the piccolo tubes and the wing leading edge on the outside and on the inside at the access panels. If any damage is found that is beyond the limits specified in the service bulletin, repair before further flight.

(ii) Replace the 460-series Peri-seals in the riblets with improved 600-series Peri-seals.

(2) As of 12 months after the effective date of this AD, no person may install on any airplane a spare wing leading edge section unless the leading edge section has been modified in accordance with Fokker Component Service Bulletin D14000-57-007, dated April 17, 2007.

(3) Actions done before the effective date of this AD in accordance with Fokker Service Bulletin SBF100-30-028, dated May 18, 2006, are considered acceptable for compliance with the actions required by paragraph (f)(1) of this AD.

FAA AD Differences

Note: This AD differs from the MCAI and/or service information as follows: No differences.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Tom Rodriguez, Aerospace Engineer, International Branch, ANM-116, Transport Airplane Directorate, FAA, 1601 Lind Avenue, SW., Renton, Washington 98057-3356; telephone (425) 227-1137; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to European Aviation Safety Agency (EASA) Airworthiness Directive 2007-0229, dated August 15, 2007; Fokker Service Bulletin SBF100-30-028, Revision 1, dated April 17, 2007; and Fokker Component Service Bulletin D14000-57-007, dated April 17, 2007; for related information.

Material Incorporated by Reference

(i) You must use Fokker Service Bulletin SBF100-30-028, Revision 1, dated April 17, 2007, to do the actions required by this AD, unless the AD specifies otherwise.

(1) The Director of the Federal Register approved the incorporation by reference of this service information under 5 U.S.C. 552(a) and 1 CFR part 51.

(2) For service information identified in this AD, contact Fokker Services B.V., Technical Services Dept., P.O. Box 231, 2150 AE Nieuw-Vennep, the Netherlands.

(3) You may review copies at the FAA, Transport Airplane Directorate, 1601 Lind Avenue, SW., Renton, Washington; or at the National Archives and Records Administration (NARA). For information on the availability of this material at NARA, call (202) 741-6030, or go to: http://www.archives.gov/federal-register/cfr/ibr-locations.html.

Issued in Renton, Washington, on April 8, 2008.
Ali Bahrami,
Manager, Transport Airplane Directorate, Aircraft Certification Service.

[FR Doc. E8-8256 Filed 4-18-08; 8:45 am]

BILLING CODE 4910-13-P